FEDERAL COMMUNICATIONS COMMISSION

47 CFR Part 73

[DA 05-3012; MM Docket No. 02-253; RM-10317 and 10872]

Radio Broadcasting Services; Sanderson, Texas

AGENCY: Federal Communications Commission.

ACTION: Final rule.

SUMMARY: The Audio Division, at the request of Big Bend Broadcasting, allots Channel 274C1 at Sanderson, Texas, as the community's second local FM service. Channel 274C1 can be allotted to Sanderson, Texas, in compliance with the Commission's minimum distance separation requirements with a site restriction of 17.6 km (11.0 miles) south of Sanderson. The coordinates for Channel 274C1 at Sanderson, Texas, are 29-59-17 North Latitude and 102-26-32 West Longitude. The Government of Mexico has concurred in this allotment, which is located within 320 kilometers (199 miles) of the U.S.-Mexican border.

DATES: Effective January 9, 2006.

FOR FURTHER INFORMATION CONTACT: Deborah Dupont, Media Bureau, (202) 418-2180.

SUPPLEMENTARY INFORMATION: This is a synopsis of the Commission's Report and Order, MM Docket No. 02-253, adopted November 23, 2005, and released November 25, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 274C1 at Sanderson.

Federal Communications Commission.
John A. Karousos,
Assistant Chief, Audio Division, Media Bureau.

[FR Doc. 05-24035 Filed 12-13-05; 8:45 am]

BILLING CODE 6712-01-P